DEPARTMENT OF TRANSPORTATION

Federal Aviation Administration

Seventh Meeting: RTCA Special Committee (230) Airborne Weather Detection Systems (Joint With EUROCAE WG-95)

AGENCY: Federal Aviation Administration (FAA), U.S. Department of Transportation (DOT).

ACTION: Notice of Seventh RTCA Special Committee 230 meeting.

SUMMARY: The FAA is issuing this notice to advise the public of the Seventh RTCA Special Committee 230 meeting.

DATES: The meeting will be held February 16-18, 2016 from 8:30 a.m.-5 p.m.

ADDRESSES: The meeting will be held at GKN Aerospace, Percival Way, Luton, Bedforshire, LU2 9PQ, United Kingdom, Tel: (202) 330-0680.

FOR FURTHER INFORMATION CONTACT: The RTCA Secretariat, 1150 18th Street NW., Suite 910, Washington, DC, 20036, or by telephone at (202) 833-9339, fax at (202) 833-9434, or Web site at http://www.rtca.org; or Karan Hofmann, Program Director, RTCA, Inc., khofmann@rtca.org, (202) 330-0680; or Anna von Groote, anna.vongrotte@eurocae.net, +33 1 40 92 79 26; or Tom Richards, local contact, Thomas.richards@gknaerospace.com; +44 (0)1582 811249, cell +44 (0)7919624190.

SUPPLEMENTARY INFORMATION: Pursuant to section 10(a)(2) of the Federal Advisory Committee Act (Pub. L. 92-463, 5 U.S.C., App.), notice is hereby given for a meeting of RTCA Special Committee 230. The agenda will include the following:

Tuesday, February 16, 2016 (8:30 a.m.-5 p.m.)

1. Plenary Meeting (8:30 a.m.-11 a.m.)

a. Welcome (WG-95/WG-95 SG)

b. Introduction—tour de table (WG-95/WG-95 SG)—Logistic & Agenda

c. Presentation of GKN AEROSPACE

d. Short presentation (WG-95)—TOR—Work Plan—Remaining work

e. Short presentation (WG-95 SG)—TOR—Work Plan

f. Future Meetings—April 2016

g. Summary of progress through WG-95 SG Webex—Camille

h. Summary of Dec 11th WG-95 Webex

i. Review of common Actions between WG-95 and the subgroup WG-95 SG

2. WG-95 Meeting (11 a.m.-5 p.m.)

3. WG-95 SG Meeting (11 a.m.-5 p.m.)

a. Review of WG-95 SG Actions

b. Review of the EUROCAE document folder

c. List of the documentation material for each part of the feasibility study

d. Presentation of HAIC 2016 Flight test campaign (preliminary results) (Honeywell & Airbus)

e. Review of the draft Section 0: Introduction/Context

f. Review of the draft Section 1: Bibliography

Wednesday, February 17, 2016 (9 a.m.-5 p.m.)

1. WG-95 Meeting (9 a.m.-5 p.m.)

a. Continue Review of WG-95 Actions

b. Review & Finalize Chapter 6

2. WG-95 SG Meeting (9 a.m.-5 p.m.)

a. Review of the draft Section 0: Introduction/Context

b. Review of the draft Section 1: Bibliography

c. Review of the draft Section 2: Definition of Intended function

d. Presentation of Airbus HMI evaluation for HAIC function (C.CARUHEL—Airbus)

e. Review of the draft Section 2: Definition of Intended function

f. Review of the draft Section 3: Operational performance goal

Thursday, February 18, 2016 (9 a.m.-4 p.m.)

1. WG-95 Meeting (9 a.m.-2 p.m.)

a. Review & Finalize Chapter 6

b. Review the entire document, actions for improvements

c. Meeting Wrap-up, review of Actions

2. WG-95 SG Meeting (9 a.m.-2 p.m.)

a. Review of the draft Section 2: Definition of Intended function

b. Review of the draft Section 3: Operational performance goal

c. Presentation of the outline of Section 4: Discussion on Radar compliance with operational performance goal (J.FINLEY—Rockwell-Collins)

d. Meeting wrap-up (update of action list, next meeting scheduling . . .)

e. Conclusion

3. Plenary Meeting (2 p.m.-4 p.m.)

a. Presentation of WG-95 SG progress report to WG-95

b. Q&A sessions

Attendance is open to the interested public but limited to space availability. All visitors to GKN Aerospace Luton must complete an ITAR visitor's form. A scanned copy of the signed form must be returned to Tom Richards prior to your visit. Also, all visitors from outside the UK must bring their passport as a suitable photo ID. With the approval of the chairman, members of the public may present oral statements at the meeting. Plenary information will be provided upon request. Persons who wish to present statements or obtain information should contact the person listed in the FOR FURTHER INFORMATION CONTACT section. Members of the public may present a written statement to the committee at any time.

Issued in Washington, DC, on February 8, 2016.
Latasha Robinson,
Management & Program Analyst, NextGen, Enterprise Support Services Division, Federal Aviation Administration.

[FR Doc. 2016-02547 Filed 2-8-16; 11:15 am]

BILLING CODE 4910-13-P